DEPARTMENT OF HEALTH AND HUMAN SERVICES

Office of the Secretary

Office of Minority Health; Notice of a Cooperative Agreement With the National Medical Association

AGENCY: Office of the Secretary, Office of Minority Health.

ACTION: Notice of a cooperative agreement with the National Medical Association.

The Office of Minority Health (OMH), Office of Public Health and Science, announces its intent to continue support of the umbrella cooperative agreement with the National Medical Association (NMA). This cooperative agreement will continue the broad programmatic framework in which specific projects can be supported by various governmental agencies during the project period.

The purpose of this cooperative agreement is to (1) increase the association's support for and assistance in increasing the proportion of practicing minority health professionals within the U.S.; and (2) assist the association in expanding and enhancing its health prevention, promotion, and health services research opportunities, with the ultimate goal of improving the health status of minorities and disadvantaged people.

The OMH will provide technical assistance and oversight as necessary for the implementation, conduct, and assessment of the project activities. On an as-needed basis, OMH will assist in arranging consultation from other government and non-government agencies.

Authority

This cooperative agreement is authorized under Section 1707(e)(1) of the Public Health Service Act, as amended.

Background

Assistance will continue to be provided to NMA. During the last 5 years, NMA has successfully demonstrated the ability to work with health agencies on activities relevant to practicing minority health professionals and to the improvement of the health status of minorities and disadvantaged people. The NMA is uniquely qualified to continue to accomplish the purposes of this cooperative agreement because it has the following combination of factors:

• It has developed and expanded an infrastructure to coordinate and implement medical education programs within local communities and physician groups that deal extensively with African American health issues. The association has also established regional, state, and local divisions which provide a foundation upon which to develop, promote, and conduct professional medical programs for preventing and reducing unnecessary morbidity and mortality among African Americans, as well as other minority populations.

• It has established itself and its members as an association with professionals who serve as leaders and experts in public health campaigns aimed at improving health status of minority populations.

• It has developed an extensive knowledge-base of essential disease prevention, health promotion, and research evaluation strategies that are necessary for any health intervention dealing with these minority populations, with particular focus on African Americans.

• It has assessed the current education, research, disease prevention, and health promotion activities for its members, affiliated groups, and represented subpopulations.

• It has developed a national association whose members are all predominately minority health professionals and providers.

• It has developed a knowledge-base of critical knowledge, skills, and abilities related to instruction, training, and preparation of medical and health professionals. Through the collective efforts of its members, the association's committees, sponsored research, and sponsored health education and prevention programs, the NMA has demonstrated (1) the ability to work with academic institutions and health agencies on mutual education, service, and research endeavors relating to the goal of preventing disease and promoting health of minorities and disadvantaged people; (2) the leadership necessary to attract minority health professionals into public health careers; and (3) the leadership needed to effectively promote health professional careers as an option to minorities and disadvantaged people who would otherwise not consider such a career path.

This cooperative agreement will be continued for an additional five-year project period with 12-month budget periods. Depending upon the types of projects and availability of funds, it is anticipated that this cooperative agreement will receive approximately $100,000 per year. Continuation awards within the project period will be made on the basis of satisfactory progress and the availability of funds.

Where To Obtain Additional Information

If you are interested in obtaining additional information regarding this cooperative agreement, contact Ms. Cynthia Amis, Office of Minority Health, 5515 Security Lane, Suite 1000, Rockville, Maryland 20852 or telephone (301) 594-0769.

OMB Catalog of Federal Domestic Assistance

The Catalog of Federal Domestic Assistance Number for this cooperative agreement is 93.004.

Dated: June 22, 2000.
Nathan Stinson, Jr.,
Deputy Assistant Secretary for Minority Health.

[FR Doc. 00-17528 Filed 7-11-00; 8:45 am]

BILLING CODE 4160-17-P